DEPARTMENT OF ENERGY

Federal Energy Regulatory Commission

[Docket No. RP01-613-000]

Northwest Pipeline Corporation; Notice of Proposed Changes in FERC Gas Tariff

October 2, 2001.

Take notice that on September 26, 2001, Northwest Pipeline Corporation (Northwest) tendered for filing as part of its FERC Gas Tariff, Third Revised Volume No. 1, the following tariff sheets, to be effective October 26, 2001:

Third Revised Sheet No. 221

First Revised Sheet No. 222

Sixth Revised Sheet No. 244

Fourth Revised Sheet No. 245

Sixth Revised Sheet No. 246

Third Revised Sheet No. 247

Third Revised Sheet No. 276

Fourth Revised Sheet No. 277

Third Revised Sheet No. 278

First Revised Sheet No. 278-A

Second Revised Sheet No. 278-B

Second Revised Sheet No. 278-C

Original Sheet No. 278-D

Original Sheet No. 278-E

Northwest states that the purpose of this filing is (1) to expand the scope of the negotiated rate provisions in Northwest's tariff to make those provisions more flexible, and (2) to clarify the priority of service provisions for interruptible service at negotiated rates.

Northwest states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25211 Filed 10-5-01; 8:45 am]

BILLING CODE 6717-01-P